DEPARTMENT OF THE INTERIOR

Bureau of Land Management

[LLWY920000.L14300000.ET0000; WYW 111611]

Notice of Proposed Withdrawal Extension and Notification of a Public Meeting for the East Fork Elk Winter Range; WY

AGENCY: Bureau of Land Management, Interior.

ACTION: Notice.

SUMMARY: The Assistant Secretary of the Interior for Policy, Management and Budget proposes to extend the duration of Public Land Order (PLO) No. 6960, as corrected by PLO No. 6980, for an additional 20-year term. PLO No. 6960 withdrew 10,535.30 acres of public mineral estate from location or entry under the United States mining laws, to protect the East Fork Elk Winter Range and elk natural feeding grounds in Fremont County. This notice gives an opportunity for the public to comment on the proposed withdrawal extension and announces the date, time, and location of a public meeting.

DATES: We must receive comments on or before January 16, 2013. We will hold a public meeting on December 3, 2012.

ADDRESSES: Send your comments to the State Director, Bureau of Land Management, Wyoming State Office, 5353 Yellowstone Road, Cheyenne, Wyoming 82009.

FOR FURTHER INFORMATION CONTACT: Janelle Wrigley, Bureau of Land Management, Wyoming State Office, 307-775-6257, or at the above address. Persons who use a telecommunications device for the deaf (TDD) may call the Federal Information Relay Service (FIRS) at 1-800-877-8339 to reach the Bureau of Land Management (BLM) contact during normal business hours. The FIRS is available 24 hours a day, 7 days a week, to leave a message or question with the above individual. You will receive a reply during normal business hours.

SUPPLEMENTARY INFORMATION: The withdrawal created by PLO No. 6960 (58 FR 16628 (1993)), as corrected by PLO No. 6980 (58 FR 33025 (1993)), will expire on March 29, 2013, unless extended. PLO No. 6960 is incorporated herein by reference. The BLM has filed a petition/application to extend PLO No. 6960 for an additional 20-year term. The PLO withdrew 10,535.30 acres of public mineral estate from location or entry under the United States mining laws, to protect the East Fork Elk Winter Range and elk natural feeding grounds.

The proposed withdrawal extension would continue to protect the elk and bighorn sheep winter range, feeding grounds, and capital investments for an additional 20-year term.

The use of a right-of-way, interagency, or cooperative agreement would not adequately constrain nondiscretionary uses which could result in permanent loss of significant values and irreplaceable resources of the range.

There are no suitable alternative sites since the lands contain an area that elk and bighorn sheep have historically used as winter range, because of the physical characteristics of the lands and the local weather conditions.

The purpose of the requested withdrawal extension does not require water rights.

You may examine records relating to the application by contacting Janelle Wrigley at the above address or by telephone: 307-775-6257, or the BLM Lander Field Office, Field Manager, 1335 Main Street, Lander, Wyoming 82520 or by telephone: 307-332-8400.

For a period until January 16, 2013, all persons who wish to submit comments, suggestions, or objections in connection with the proposed withdrawal extension may present their views in writing to the BLM Wyoming State Director at the address noted above. Comments, including names and street addresses of respondents, will be available for public review at the BLM Lander Field Office, 1335 Main Street, Lander, Wyoming, during regular business hours 8:00 a.m. to 4:30 p.m., Monday through Friday, except Federal holidays.

Before including your address, phone number, email address, or other personal identifying information in your comment, you should be aware that your entire comment—including your personal identifying information—may be made publicly available at any time. While you may ask us in your comment to withhold your personal identifying information from public review, we cannot guarantee that we will be able to do so.

We will hold a public meeting in connection with the proposed withdrawal extension on December 3, 2012, at the Dubois Town Hall, 712 Meckem, Dubois, Wyoming from 4:30 p.m. until 7:30 p.m. We will publish a notice of the time and place in at least one local newspaper no less than 30 days before the scheduled meeting date. Interested parties may make oral statements and may file written statements at the meeting. We will consider all statements received before we submit any recommendation concerning the proposed extension to the Assistant Secretary for final action.

We will process this withdrawal extension proposal in accordance with the regulations set forth in 43 CFR 2310.1-2.

Authority: 43 CFR 2310.3-1.

Larry Claypool,
Acting Wyoming State Director.

[FR Doc. 2012-25594 Filed 10-17-12; 8:45 am]

BILLING CODE 4310-22-P